DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Madison (FEMA Docket No.: B-2226) | City of Huntsville (21-04-3964P) | The Honorable Thomas Battle, Jr., Mayor, City of Huntsville, 308 Fountain Circle, Huntsville, AL 35801 | City Hall, 308 Fountain Circle, Huntsville, AL 35801 | Mar. 28, 2022 | 010153
Madison (FEMA Docket No.: B-2226) | Unincorporated areas of Madison County (21-04-3964P) | The Honorable Dale Strong, Chairman, Madison County Commission, 100 North Side Square, Huntsville, AL 35801 | Madison County Engineering Department, 266-C Shields Road, Huntsville, AL 35811 | Mar. 28, 2022 | 010151
Shelby (FEMA Docket No.: B-2226) | Town of Harpersville (21-04-4025P) | The Honorable Theoanglo Perkins, Mayor, Town of Harpersville, 83 Town Hall Lane, Harpersville, AL 35078 | Town Hall, 83 Town Hall Lane, Harpersville, AL 35078 | Mar. 14, 2022 | 010293
Colorado:
Douglas (FEMA Docket No.: B-2188) | Unincorporated areas of Douglas County (21-08-0569P) | The Honorable Lora A. Thomas, Chair, Douglas County Board of Commissioners, 100 3rd Street, Castle Rock, CO 80104 | Douglas County Public Works Department, Engineering Division, Castle Rock, CO 80104 | Mar. 18, 2022 | 080049
El Paso (FEMA Docket No.: B-2188) | City of Colorado Springs (21-08-0258P) | The Honorable John Suthers, Mayor, City of Colorado Springs, 30 South Nevada Avenue, Suite 601, Colorado Springs, CO 80903 | Pikes Peak Regional Development Center, 2880 International Circle, Colorado Springs, CO 80910 | Mar. 16, 2022 | 080060
El Paso (FEMA Docket No.: B-2188) | Unincorporated areas of El Paso County (21-08-0258P) | The Honorable Stan VanderWerf, Chairman, El Paso County Board of Commissioners, 200 South Cascade Avenue, Suite 100, Colorado Springs, CO 80903 | Pikes Peak Regional Development Center, 2880 International Circle, Colorado Springs, CO 80910 | Mar. 16, 2022 | 080059
Connecticut: Fairfield (FEMA Docket No.: B-2188) | Town of Greenwich (21-01-1019P) | The Honorable Fred Camillo, First Selectman, Town of Greenwich Board of Selectmen, 101 Field Point Road, Greenwich, CT 06830 | Planning and Zoning Department, 101 Field Point Road, Greenwich, CT 06830 | Mar. 9, 2022 | 090008
Florida:
Collier (FEMA Docket No.: B-2188) | City of Naples (21-04-5172P) | The Honorable Teresa Heitmann, Mayor, City of Naples, 735 8th Street South, Naples, FL 34102 | Building Department, 295 Riverside Circle, Naples, FL 34102 | Mar. 15, 2022 | 125130
Lee (FEMA Docket No.: B-2188) | City of Bonita Springs (21-04-5316P) | The Honorable Rick Steinmeyer, Mayor, City of Bonita Springs, 9101 Bonita Beach Road, Bonita Springs, FL 34135 | Community Development Department, 9220 Bonita Beach Road, Bonita Springs, FL 34135 | Mar. 18, 2022 | 120680
Lee (FEMA Docket No.: B-2188) | Town of Fort Myers Beach (21-04-5796P) | The Honorable Ray Murphy, Mayor, Town of Fort Myers Beach, 2525 Estero Boulevard, Fort Myers Beach, FL 33931 | Community Development Department, 2525 Estero Boulevard, Fort Myers Beach, FL 33931 | Mar. 21, 2022 | 120673
Osceola (FEMA Docket No.: B-2188) | Unincorporated areas of Osceola County (20-04-3793P) | The Honorable Brandon Arrington, Chairman, Osceola County Commission, District 3, 1 Courthouse Square, Suite 4700, Kissimmee, FL 34741 | Osceola County Public Works Department, 1 Courthouse Square, Suite 4700, Kissimmee, FL 34741 | Mar. 18, 2022 | 120189
Pasco (FEMA Docket No.: B-2188) | Unincorporated areas of Pasco County (21-04-2454P) | Mr. Dan Biles, Pasco County Administrator, 8731 Citizens Drive, New Port Richey, FL 34654 | Pasco County Administration Building, 8731 Citizens Drive, New Port Richey, FL 34654 | Mar. 17, 2022 | 120230
Sarasota (FEMA Docket No.: B-2188) | City of Sarasota (21-04-5236P) | The Honorable Hagen Brody, Mayor, City of Sarasota, 1565 1st Street, Room 101, Sarasota, FL 34236 | Development Services Department, 1565 1st Street, Sarasota, FL 34236 | Mar. 17, 2022 | 125150
Sumter (FEMA Docket No.: B-2188) | City of Wildwood (20-04-3751P) | The Honorable Ed Wolf, Mayor, City of Wildwood, 100 North Main Street, Wildwood, FL 34785 | Development Services Department, 100 North Main Street, Wildwood, FL 34785 | Mar. 18, 2022 | 120299
Sumter (FEMA Docket No.: B-2188) | Unincorporated areas of Sumter County (20-04-3751P) | The Honorable Garry Breeden, Chairman, Sumter County Board of Commissioners, 7375 Powell Road, Wildwood, FL 34785 | Sumter County Development Services Department, 7375 Powell Road, Wildwood, FL 34785 | Mar. 18, 2022 | 120296
Georgia:
DeKalb (FEMA Docket No.: B-2214) | City of Brookhaven (21-04-2020P) | Mr. Christian Sigman, Manager, City of Brookhaven, 4362 Peachtree Road, Brookhaven, GA 30319 | City Hall, 4362 Peachtree Road, Brookhaven, GA 30319 | Mar. 18, 2022 | 135175
DeKalb (FEMA Docket No.: B-2214) | Unincorporated areas of DeKalb County (21-04-2020P) | The Honorable Michael L. Thurmond, Chief Executive Officer, DeKalb County, 1300 Commerce Drive, Decatur, GA 30030 | DeKalb County Public Works Department, Roads and Drainage Division, 727 Camp Road, Decatur, GA 30032 | Mar. 18, 2022 | 130065
Tift (FEMA Docket No.: B-2214) | City of Tifton (21-04-5139X) | The Honorable Julie Smith, Mayor, City of Tifton, 130 1st Street East, Tifton, GA 31794 | City Hall, 130 1st Street East, Tifton, GA 31794 | Mar. 10, 2022 | 130171
Tift (FEMA Docket No.: B-2214) | Unincorporated areas of Tift County (21-04-5139X) | Mr. Jim Carter, Manager, Tift County, Board of Commissioners, 225 North Tift Avenue, Room 204, Tifton, GA 31794 | Tift County Building Department, 225 North Tift Avenue, Tifton, GA 31794 | Mar. 10, 2022 | 130404
Massachusetts: Barnstable (FEMA Docket No.: B-2203) | Town of Chatham (21-01-1300P) | Ms. Jill Goldsmith, Manager, Town of Chatham, 549 Main Street, Chatham, MA 02633 | Community Development Department, 261 George Ryder Road, Chatham, MA 02633 | Mar. 11, 2022 | 250004
North Carolina: Surry (FEMA Docket No.: B-2203) | Unincorporated areas of Surry County (21-04-0390P) | The Honorable Mark Marion, Chairman, Surry County Board of Commissioners, P.O. Box 1467, Dobson, NC 27017 | Surry County Central Permitting Center, 122 Hamby Road, Dobson, NC 27017 | Mar. 14, 2022 | 370364
South Carolina:
Jasper (FEMA Docket No.: B-2203) | City of Hardeeville (21-04-2468P) | Mr. Michael J. Czymbor, Manager, City of Hardeeville, 205 Main Street, Hardeeville, SC 29927 | Planning and Development Department, 205 Main Street, Hardeeville, SC 29927 | Mar. 10, 2022 | 450113
Jasper (FEMA Docket No.: B-2203) | Unincorporated areas of Jasper County (21-04-2468P) | The Honorable Barbara Clark, Chair, Jasper County Council, 358 3rd Avenue, Ridgeland, SC 29936 | Jasper County Planning and Building Department, 358 3rd Avenue, Ridgeland, SC 29936 | Mar. 10, 2022 | 450112
Tennessee:
Maury (FEMA Docket No.: B-2188) | City of Spring Hill (20-04-3873P) | The Honorable Jim Hagaman, Mayor, City of Spring Hill, P.O. Box 789, Spring Hill, TN 37174 | Building Codes Department, 5000 Northfield Lane, Suite 520, Spring Hill, TN 37174 | Mar. 17, 2022 | 470278
Maury (FEMA Docket No.: B-2188) | Unincorporated areas of Maury County (20-04-3873P) | The Honorable Andy Ogles, Mayor, Maury County, 41 Public Square, Columbia, TN 38401 | Maury County, Building Department, 5 Public Square, Columbia, TN 38401 | Mar. 17, 2022 | 470123
Texas:
Bexar (FEMA Docket No.: B-2214) | Unincorporated areas of Bexar County (21-06-0768P) | The Honorable Nelson W. Wolff, Bexar County Judge, 101 West Nueva Street, 10th Floor, San Antonio, TX 78205 | Bexar County Public Works Department, 1948 Probandt Street, San Antonio, TX 78214 | Mar. 21, 2022 | 480035
Collin (FEMA Docket No.: B-2188) | City of Allen (21-06-1539P) | The Honorable Ken Fulk, Mayor, City of Allen, 305 Century Parkway, 1st Floor, Allen, TX 75013 | Engineering and Traffic Department, 305 Century Parkway, Allen, TX 75013 | Mar. 18, 2022 | 480131
Collin (FEMA Docket No.: B-2188) | City of Plano (21-06-1659P) | The Honorable John B. Muns, Mayor, City of Plano, 1520 K Avenue, Plano, TX 75074 | City Hall, 1520 K Avenue, Plano, TX 75074 | Mar. 21, 2022 | 480140
Comal (FEMA Docket No.: B-2188) | City of Bulverde (21-06-1446P) | The Honorable Bill Krawietz, Mayor, City of Bulverde, 30360 Cougar Bend, Bulverde, TX 78163 | City Hall, 30360 Cougar Bend, Bulverde, TX 78163 | Mar. 10, 2022 | 481681
Comal (FEMA Docket No.: B-2188) | Unincorporated areas of Comal County (21-06-1446P) | The Honorable Sherman Krause, Comal County Judge, 100 Main Plaza, New Braunfels, TX 78130 | Comal County Engineering Department, 195 David Jonas Drive, New Braunfels, TX 78132 | Mar. 10, 2022 | 481681
Kendall (FEMA Docket No.: B-2214 ) | Unincorporated areas of Kendall County (21-06-1445P) | The Honorable Darrel L. Lux, Kendall County Judge, 201 East San Antonio Avenue, Suite 122, Boerne, TX 78006 | Kendall County Engineer and Development Management Office, 201 East San Antonio Avenue, Suite 101, Boerne, TX 78006 | Mar. 16, 2022 | 480417
Utah: Washington (FEMA Docket No.: B-2188) | City of St. George (21-08-0603P) | The Honorable Michele Randall, Mayor, City of St. George, 175 East 200 North, St. George, UT 84770 | City Hall, 175 East 200 North, St. George, UT 84770 | Mar. 16, 2022 | 490177
Virginia:
Independent City (FEMA Docket No.: B-2188) | City of Charlottesville (21-03-0301P) | Mr. Sam Sanders, Deputy Manager, City of Charlottesville, P.O. Box 911, Charlottesville, VA 22902 | Public Works Engineering Division, 610 East Market Street, Charlottesville, VA 22902 | Mar. 16, 2022 | 510033
Albemarle (FEMA Docket No.: B-2188) | Unincorporated areas of Albemarle County (21-03-0301P) | The Honorable Ned L. Gallaway, Chairman, Albemarle County Board of Supervisors, 401 McIntire Road, Charlottesville, VA 22902 | Albemarle County Community Development Department, 401 McIntire Road, Charlottesville, VA 22902 | Mar. 16, 2022 | 510006
Henrico (FEMA Docket No.: B-2188) | Unincorporated areas of Henrico County (21-03-0879P) | Mr. John A. Vithoulkas, Henrico County Manager, P.O. Box 90775, Henrico, VA 23273 | Henrico County Administration Annex Building, 4305 East Parham Road, Henrico, VA 23228 | Mar. 10, 2022 | 510077

[FR Doc. 2022-07299 Filed 4-5-22; 8:45 am]

BILLING CODE 9110-12-P